DEPARTMENT OF COMMERCE

National Oceanic and Atmospheric Administration

RIN: 0648-XA510

Pacific Fishery Management Council; Public Meetings

AGENCY: National Oceanic and Atmospheric Administration (NOAA), Commerce, National Marine Fisheries Service (NMFS).

ACTION: Notice of public meetings.

SUMMARY: The Stock Assessment Review (STAR) Panels will hold work sessions to review stock assessments for widow rockfish and spiny dogfish, sablefish and Dover sole, and greenspotted rockfish and blackgill rockfish, which are open to the public.

DATES: The meetings will be held between July 11, 2011 and August 12, 2011. See SUPPLEMENTARY INFORMATION for dates and times of the specific meetings.

ADDRESSES: The Stock Assessment Review Panel for the widow rockfish and spiny dogfish stock assessments will be held at the Hotel Deca, 4507 Brooklyn Avenue NE., Seattle WA 98105; telephone: (1-800) 899-0251.

The Stock Assessment Review Panel for the sablefish and Dover sole stock assessments will be held at the National Marine Fisheries Service, Northwest Fisheries Science Center, Newport Research Station, 2032 SE OSU Drive, Newport, OR 97365; telephone: (541) 867-0500.

The Stock Assessment Review Panel for the greenspotted rockfish and blackgill rockfish stock assessment will be held at the National Marine Fisheries Service, Southwest Fisheries Science Center, Santa Cruz Laboratory, 110 Shaffer Road, Santa Cruz, CA 95060; telephone: (831) 420-3900.

Council address: Pacific Fishery Management Council (Pacific Council), 7700 NE. Ambassador Place, Suite 101, Portland, OR 97220-1384.

FOR FURTHER INFORMATION CONTACT: Ms. Stacey Miller, NMFS Northwest Fisheries Science Center; telephone: (541) 961-8475; or Mr. John DeVore, Pacific Fishery Management Council; telephone: (503) 820-2280.

SUPPLEMENTARY INFORMATION: The purpose of the Stock Assessment Review Panels are to review draft 2011 stock assessment documents and any other pertinent information for widow rockfish, spiny dogfish, sablefish, Dover sole, greenspotted rockfish and blackgill rockfish stock assessments, work with the Stock Assessment Teams to make necessary revisions, and produce Stock Assessment Review Panel reports for use by the Pacific Council family and other interested persons for developing management recommendations for 2013-14 fisheries. No management actions will be decided by the Panels. The Panels' role will be development of recommendations and reports for consideration by the Pacific Council at its September meeting in San Mateo, CA.

Meeting Dates and Times

The Stock Assessment Review Panel for widow rockfish and spiny dogfish stock assessments will be held beginning at 9 a.m., Monday, July 11, 2011 and end at 5:30 p.m. or as necessary to complete business for the day. The Panel will reconvene on Tuesday, July 12 and will continue through Friday, July 15, 2011 beginning at 8 a.m. and ending at 5:30 p.m. each day, or as necessary to complete business. The Panel will adjourn on Friday, July 15, 2011.

The Stock Assessment Review Panel for sablefish and Dover sole stock assessments will be held beginning at 9 a.m., Monday, July 25, 2011 and end at 5:30 p.m. or as necessary to complete business for the day. The panel will reconvene on Tuesday, July 26 and will continue through Friday, July 29, 2011 beginning at 8 a.m. and ending at 5:30 p.m. each day, or as necessary to complete business. The Panel will adjourn on Friday, July 29, 2011.

The Stock Assessment Review Panel for the greenspotted rockfish and blackgill rockfish stock assessments will be held beginning at 9 a.m., Monday, August 8, 2011 and end at 5:30 p.m. or as necessary to complete business for the day. The panel will reconvene on Tuesday, August 9, and will continue through Friday, August 12, 2011 beginning at 8 a.m. and ending at 5:30 p.m. each day, or as necessary to complete business. The panel will adjourn on Friday, August 12, 2011.

Although non-emergency issues not contained in the meeting agenda may come before the Panel participants for discussion, those issues may not be the subject of formal Stock Assessment Review Panel action during these meetings. Panel action will be restricted to those issues specifically listed in this notice and any issues arising after publication of this notice that require emergency action under Section 305(c) of the Magnuson-Stevens Fishery Conservation and Management Act, provided the public has been notified of the Panel participants' intent to take final action to address the emergency.

Special Accommodations

These meetings are physically accessible to people with disabilities. Requests for sign language interpretation or other auxiliary aids should be directed to Mr. Kris Kleinschmidt at (503) 820-2280 at least 5 days prior to the meeting date.

Dated: June 20, 2011.
Tracey L. Thompson,
Acting Director, Office of Sustainable Fisheries, National Marine Fisheries Service.

[FR Doc. 2011-15722 Filed 6-22-11; 8:45 am]

BILLING CODE 3510-22-P